ENVIRONMENTAL PROTECTION AGENCY

[FRL-6839-1

Board of Scientific Counselors, Executive Committee Meeting

AGENCY: Environmental Protection Agency (EPA).

ACTION: Notice of teleconference.

SUMMARY: Pursuant to the Federal Advisory Committee Act, Public Law 92-463, as amended (5 U.S.C., App. 2) notification is hereby given that the Environmental Protection Agency, Office of Research and Development (ORD), The Board of Scientific Counselors (BOSC), will hold its Executive Committee Meeting (Teleconference).

DATES: The Teleconference will be held on August 10, 2000.

ADDRESSES: On Thursday, August 10, 2000, the teleconference will begin at 10:00 a.m. and will adjourn at 12:00 Noon. All times noted are Eastern Time.

SUPPLEMENTARY INFORMATION: The entire agenda of the BOSC Executive Committee teleconference will be dedicated to the discussion and approval of the BOSC Ad-Hoc Subcommittees' Reviews of ORD's Particulate Matter Research Program. The teleconference is open to the public. Any member of the public wishing to speak on the teleconference should contact Shirley Hamilton, Designated Federal Officer, Office of Research and Development (8701R), 1200 Pennsylvania Avenue, N.W., Washington, D.C. 20460; or telephone at (202) 564-6853. In general each individual making an oral presentation will be limited to a total of three minutes.

FOR FURTHER INFORMATION CONTACT: Shirley R. Hamilton, Designated Federal Officer, U.S. Environmental Protection Agency, Office of Research and Development, NCER (MC 8701R), 1200 Pennsylvania Avenue, N.W. Washington, D.C. 20460, (202) 564-6853.

Dated: July 12, 2000.
Peter W. Preuss,
Director, National Center for Environmental Research.

[FR Doc. 00-18433 Filed 7-19-00; 8:45 am]

BILLING CODE 6560-50-M